ENVIRONMENTAL PROTECTION AGENCY

40 CFR Part 52

[EPA-R09-OAR-2018-0133; FRL-9992-71-Region 9]

Air Plan Revisions; California; Correcting Amendments

AGENCY: Environmental Protection Agency (EPA).

ACTION: Final rule, correcting amendment.

SUMMARY: On February 12, 2019, the EPA published two final rules in the Federal Register approving certain other revisions to the California SIP. In these final rules, the EPA included inaccurate amendatory instructions that have prevented incorporation of the final actions into the CFR. The error will be corrected in this action.

DATES: This action is effective on May 3, 2019.

FOR FURTHER INFORMATION CONTACT: Kevin Gong, EPA Region IX, (415) 972-3073, Gong.Kevin@epa.gov.

SUPPLEMENTARY INFORMATION: This action corrects an inadvertent error in the amendatory instructions in final rulemakings affecting 40 CFR part 52.

On December 31, 2018 (83 FR 67696), the EPA published a final rule approving the Reasonably Available Control Technology (RACT) demonstration for the El Dorado County Air Quality Management District. This action added paragraph (c)(513) to § 52.220 for the state plan revision submitted on January 4, 2017. On February 12, 2019, the EPA published two final rules at 84 FR 3302 and 84 FR 3305 approving various air quality planning provisions from the California Air Resources Board (CARB) for the South Coast Air Quality Management District (SCAQMD) and the San Joaquin Valley Air Pollution Control District (SJVAPCD) as revisions to the California SIP. These documents were submitted on April 27, 2017. Due to inaccurate amendatory instructions in both of the February 12, 2019 documents, the approval of the two sets of additional material was erroneously set out into 40 CFR 52.220(c)(513), which, as noted above, with respect to the RACT demonstration for El Dorado County, is designated for the approvals of the SIP submittals made on January 4, 2017. The EPA is correcting the error by removing the SCAQMD and SJVAPCD provisions from paragraph (c)(513) and adding them in paragraph (c)(517) in this action.

The EPA has determined that this action falls under the “good cause” exemption in section 553(b)(3)(B) of the Administrative Procedures Act (APA) which, upon finding “good cause,” authorizes agencies to dispense with public participation where public notice and comment procedures are impracticable, unnecessary, or contrary to the public interest. Public notice and comment for this action is unnecessary because the underlying rules for which this correcting amendment have been prepared were already subject to 30-day comment periods. Further, this action is consistent with the purposes and rationales of the final rules for which typesetting errors and inaccurate amendatory instructions are being corrected herein. Because this action does not change the EPA's analyses or overall actions, no purpose would be served by additional public notice and comment. Consequently, additional public notice and comment are unnecessary.

The EPA also finds that there is good cause under APA section 553(d)(3) for this correction to become effective on the date of publication of this action. Section 553(d)(3) of the APA allows an effective date of less than 30 days after publication “as otherwise provided by the agency for good cause found and published with the rule.” 5 U.S.C. 553(d)(3). The purpose of the 30-day waiting period prescribed in APA section 553(d)(3) is to give affected parties a reasonable time to adjust their behavior and prepare before the final rule takes effect. This rule does not create any new regulatory requirements such that affected parties would need time to prepare before the rule takes effect. This action merely corrects typesetting errors and inaccurate amendatory instructions in previous rulemakings. For these reasons, the EPA finds good cause under APA section 553(d)(3) for this correction to become effective on the date of publication of this action.

Statutory and Executive Order Reviews

Under Executive Order 12866 (58 FR 51735, October 4, 1993), this action is not a “significant regulatory action” and is therefore not subject to review by the Office of Management and Budget. In addition, this action does not impose any enforceable duty or contain any unfunded mandate as described in the Unfunded Mandates Reform Act of 1995 (Pub. L. 104-4), or require prior consultation with state officials as specified by Executive Order 12875 (58 FR 58093, October 28, 1993), or involve special consideration of environmental justice related issues as required by Executive Order 12898 (59 FR 7629, February 16, 1994).

Because this action is not subject to notice-and-comment requirements under the APA or any other statute, it is not subject to the provisions of the Regulatory Flexibility Act (5 U.S.C. 601 et seq.).

Under 5 U.S.C. 801(a)(1)(A) as added by the Small Business Regulatory Enforcement Fairness Act of 1996, the EPA will submit a report containing this rule and other required information to the U.S. Senate, the U.S. House of Representatives and the Comptroller General of the General Accounting Office prior to publication of this rule in the Federal Register. This rule is not a “major rule” as defined by 5 U.S.C. 804(2).

List of Subjects in 40 CFR Part 52

Environmental protection, Air pollution control, Incorporation by reference, Intergovernmental relations, Carbon monoxide, Nitrogen dioxide, Ozone, Particulate matter, Sulfur oxides, Volatile organic compounds, Reporting and recordkeeping requirements.

Dated: April 15, 2019.
Deborah Jordan,
Acting Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by removing and reserving paragraph (c)(513)(ii)(B) and adding reserved paragraph (c)(516) and paragraph (c)(517) to read as follows:

§ 52.220 Identification of plan—in part.

* * * * *

(c) * * *

(517) The following plan was submitted on April 27, 2017, by the Governor's designee.

(i) [Reserved]

(ii) Additional materials. (A) California Air Resources Board.

(1) Resolution 17-7, 2016 State Strategy for the State Implementation Plan, March 23, 2017, commitments to a rulemaking schedule and to achieve aggregate emission reductions of 8 tons per day of NOX in San Joaquin Valley by 2031, and the rulemaking schedule included in attachment A to Resolution 17-7, only.

(2) Revised Proposed 2016 State Strategy for the State Implementation Plan, adopted on March 23, 2017, except for the subchapter titled “South Coast Commitment” in chapter 3 (“Proposed SIP Commitment”).

(B) South Coast Air Quality Management District.

(1) The following portions of the “Final 2016 Air Quality Management Plan (March 2017),” adopted March 3, 2017: Chapter 5 (“PM2.5 Modeling Approach”), pages 5-17 through 5-27; Appendix III (“Base and Future Emission Inventory”), Attachment A (“Annual Average Emissions by Source Category in South Coast Air Basin”) for PM2.5, NOX, SO2, VOC, and NH3 for years 2012, 2017, 2019, and 2020 and Attachment D, tables D-1, D-3, D-7 and D-9; Appendix IV-A (“SCAQMD's Stationary and Mobile Source Control Measures”), Table IV-A-4 and section 2 (“PM2.5 Control Measures”); Appendix IV-C (“Regional Transportation Strategy and Control Measures”), section IV (“TCM Best Available Control Measure (BACM) Analysis for 2006 24-Hour and 2012 Annual PM2.5 NAAQS”); Appendix V (“Modeling and Attainment Demonstration”), Chapter 7 (“24-hour PM2.5 Demonstration”) and Attachment 8 (“24-hour Unmonitored Area Analysis Supplement”); Appendix VI-A (“Reasonably Available Control Measures (RACM)/Best Available Control Measures (BACM) Demonstration”), pages VI-A-13 through VI-A-42, Attachment VI-A-1 (“Evaluation of SCAQMD Rules and Regulations”), Attachment VI-A-2 (“Control Measure Assessment”), and Attachment VI-A-3 (“California Mobile Source Control Program Best Available Control Measures/Reasonably Available Control Measures Assessment”); Appendix VI-C (“Reasonable Further Progress (RFP) and Milestone Years”), pages VI-C-5 through VI-C-8, and Attachment VI-C-1 (“California Existing Mobile Source Control Program”); Appendix VI-D (“General Conformity and Transportation Conformity Budget”), pages VI-D-2 through VI-D-6 and excluding tables VI-D-1 through 3; and Appendix VI-F (“Precursor Requirements”).

(2) Letter dated March 14, 2018 from Philip Fine, Deputy Executive Officer, Planning, Rule Development, and Area Sources, South Coast Air Quality Management District, to Amy Zimpfer, Associate Director, Air Division, EPA Region IX.

(3) Letter dated June 15, 2018 from Philip Fine, Deputy Executive Officer, Planning, Rule Development, and Area Sources, South Coast Air Quality Management District, to Amy Zimpfer, Associate Director, Air Division, EPA Region IX, regarding “Condensable and Filterable Portions of PM2.5 Emissions in the 2016 AQMD.”

[FR Doc. 2019-08628 Filed 5-2-19; 8:45 am]

BILLING CODE 6560-50-P